DEPARTMENT OF TRANSPORTATION

Federal Aviation Administration

14 CFR Part 71

[Docket No. FAA-2004-19851; Airspace Docket No. 04-AAL-13]

RIN 2120-AA66

Proposed Modification and Revocation of Federal Airways; Alaska

AGENCY: Federal Aviation Administration (FAA), DOT.

ACTION: Notice of proposed rulemaking (NPRM).

SUMMARY: This action proposes to revoke jet route 711 (J-711), modify jet routes 133 and 889R (J-133 and J-889R), and modify two colored Federal airway (B-25 and A-1) in Alaska. The FAA is proposing this action to remove all airways and routes off the Hinchinbrook, AK, Nondirectional Radio Beacon (NDB) in preparation for the NDB's eventual decommissioning from the National Airspace System (NAS).

DATES: Comments must be received on or before March 7, 2005.

ADDRESSES: Send comments on this proposal to the Docket Management System, U.S. Department of Transportation, Room Plaza 401, 400 Seventh Street, SW., Washington, DC 20590-0001. You must identify the FAA Docket No. FAA-2004-19851 and Airspace Docket No. 04-AAL-13, at the beginning of your comments. You may also submit comments on the Internet at http://dms.dot.gov.

FOR FURTHER INFORMATION CONTACT: Ken McElroy, Airspace and Rules, Office of System Operations and Safety, Federal Aviation Administration, 800 Independence Avenue, SW., Washington, DC 20591; telephone: (202) 267-8783.

SUPPLEMENTARY INFORMATION:

Comments Invited

Interested parties are invited to participate in this proposed rulemaking by submitting such written data, views, or arguments as they may desire. Comments that provide the factual basis supporting the views and suggestions presented are particularly helpful in developing reasoned regulatory decisions on the proposal. Comments are specifically invited on the overall regulatory, aeronautical, economic, environmental, and energy-related aspects of the proposal.

Communications should identify both docket numbers (FAA Docket No. FAA-2004-19851 and Airspace Docket No. 04-AAL-13) and be submitted in triplicate to the Docket Management System (see ADDRESSES section for address and phone number). You may also submit comments through the Internet at http://dms.dot.gov.

Commenters wishing the FAA to acknowledge receipt of their comments on this notice must submit with those comments a self-addressed, stamped postcard on which the following statement is made: “Comments to FAA Docket No. FAA-2004-19851 and Airspace Docket No. 04-AAL-13.” The postcard will be date/time stamped and returned to the commenter.

All communications received on or before the specified closing date for comments will be considered before taking action on the proposed rule. The proposal contained in this action may be changed in light of comments received. All comments submitted will be available for examination in the public docket both before and after the closing date for comments. A report summarizing each substantive public contact with FAA personnel concerned with this rulemaking will be filed in the docket.

Availability of NPRM's

An electronic copy of this document may be downloaded through the Internet at http://dms.dot.gov. Recently published rulemaking documents can also be accessed through the FAA's web page at http://www.faa.gov or the Federal Register's web page at http://www.gpoaccess.gov/fr/index.html.

You may review the public docket containing the proposal, any comments received, and any final disposition in person in the Dockets Office between 9 a.m. and 5 p.m., Monday through Friday, except Federal holidays. An informal docket may also be examined during normal business hours at the office of the Regional Air Traffic Division, Federal Aviation Administration, 222 West 7th Avenue, #14, Anchorage, AK 99533.

Persons interested in being placed on a mailing list for future NPRM's should contact the FAA's Office of Rulemaking, (202) 267-9677, for a copy of Advisory Circular No. 11-2A, Notice of Proposed Rulemaking Distribution System, which describes the application procedure.

Background

In August 2004, the Alaskan Region determined that continued operation of the Hinchinbrook, AK, NDB was in jeopardy at its current location, and that action was required to reconfigure the airways using the Orca Bay, AK, NDB instead of the Hinchinbrook, NDB.

The Proposal

The FAA is proposing an amendment to Title 14 Code of Federal Regulations (14 CFR) part 71 (part 71) to revoke J-711, and to modify J-133, J-889R, B-25, and A-1 in Alaska. The FAA is proposing this action to remove all airways and routes off the Hinchinbrook, AK, NDB in preparation for commissioning of the Orca Bay NDB on May 1, 2005.

Colored Federal airways and jet routes are published in paragraphs 6009(c) and paragraph 2004, respectively, of FAA Order 7400.9M dated August 30, 2004, and effective September 16, 2004, which is incorporated by reference in 14 CFR section 71.1. The colored Federal airway and Alaskan VOR Federal airways listed in this document would be published subsequently in the order.

The FAA has determined that this proposed regulation only involves an established body of technical regulations for which frequent and routine amendments are necessary to keep them operationally current. Therefore, this proposed regulation: (1) Is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act.

List of Subjects in 14 CFR Part 71

Airspace, Incorporation by reference, Navigation (air).

The Proposed Amendment

In consideration of the foregoing, the Federal Aviation Administration proposes to amend 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of FAA Order 7400.9M, Airspace Designations and Reporting Points, dated August 30, 2004, and effective September 16, 2004, is amended as follows:

Paragraph 2004 Jet Routes

* * * * *

J-711 [Revoked]

* * * * *

J-133 [Revised]

From Sitka, AK, NDB via INT Sitka, AK NDB (308°T/280°M) and Orca Bay, AK, NDB (114°T/091°M); Johnstone Point, AK; Anchorage, AK; to Galena, AK.

* * * * *

J-889R Anchorage, AK, to Yakutat, AK [Revised]

NOWEL

60°28′59″ N. 148°38′08″ W. Anchorage, AK

ARISE

60°00′00″ N. 146°09′13″ W. Middleton Island, AK

KONKS

59°33′02″ N. 144°00′07″ W Middleton Island, AK

LAIRE

58°48′15″ N. 140°31′43″ W Yakutat, AK

* * * * *

Paragraph 6009(c) Amber Federal Airways

* * * * *

A-1 [Revised]

From Sandspit, BC, Canada, NDB 96 miles 12 AGL, 102 miles 35 MSL, 57 miles 12 AGL, via Sitka, AK, NDB; 31 miles 12 AGL, 50 miles 47 MSL , 88 miles 20 MSL, 40 miles 12 AGL, Ocean Cape, AK, NDB; INT Ocean Cape NDB 283° and Orca Bay, AK, NDB 106° bearings; Orca Bay NDB; INT Orca Bay 285° and Campbell Lake, AK, NDB 123° bearings; Campbell Lake NDB; Takotna River, AK, NDB; 24 miles 12 AGL, 53 miles 55 MSL; 51 miles 40 MSL, 25 miles 12 AGL, North River, AK, NDB; 17 miles 12 AGL, 89 miles 25 MSL, 17 miles 12 AGL, to Fort Davis, AK, NDB. Excluding that airspace within Canada.

* * * * *

Paragraph 6009(d) Blue Federal Airways

* * * * *

B-25 [Revised]

From Orca Bay, AK, NDB, via Glenallen, AK, NDB; Delta Junction, AK, NDB.

* * * * *

Issued in Washington, DC, January 13, 2005.
Edie Parish,
Acting Manager, Airspace and Rules.

[FR Doc. 05-1157 Filed 1-19-05; 8:45 am]

BILLING CODE 4910-13-P